DEPARTMENT OF TRANSPORTATION

Federal Aviation Administration

Notice of Intent To Release Certain Properties From All Terms, Conditions, Reservations and Restrictions of a Quitclaim Deed Agreement Between the City of Lakeland and the Federal Aviation Administration for the Lakeland Linder Regional Airport, Lakeland, FL

AGENCY: Federal Aviation Administration (FAA), DOT.

ACTION: Request for public comment.

SUMMARY: The FAA hereby provides notice of intent to release certain airport properties 58 acres at the Lakeland Linder Regional Airport, Lakeland, Florida from the conditions, reservations, and restrictions as contained in a Quitclaim Deed agreement between the FAA and the City of Lakeland, dated September 1947 and the supplemental Quitclaim Deed agreement, dated April 1948. The release of property will allow the City of Lakeland to dispose of the property for other than aeronautical purposes. The property is located in the City of Lakeland, Polk County, Florida. The parcel is currently designated as aeronautical and non-aeronautical use. The property will be disposed of for the purpose of industrial use. The fair market value of the property has been determined by appraisal to be $3,190,000. The airport will receive fair market value for the property, which will be subsequently reinvested in another eligible airport improvement project.

Documents reflecting the Sponsor's request are available, by appointment only, for inspection at the Office of the Airport Director, Lakeland Linder Regional Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: May 8, 2008.

ADDRESSES: Documents are available for review at 3900 Don Emerson Drive, Suite 210, Lakeland, FL 33811, and the FAA Airports District Office, 5950 Hazeltine National Drive, Suite 400, Orlando, FL 32822. Written comments on the Sponsor's request must be delivered or mailed to: Gavin Fahnestock, Program Manager, Orlando Airports District Office, 5950 Hazeltine National Drive, Suite 400, Orlando, FL 32822-5024.

FOR FURTHER INFORMATION CONTACT: Gavin Fahnestock, Program Manager, Orlando Airports District Office, 5950 Hazeltine National Drive, Suite 400, Orlando, FL 32822-5024.

Bart Vernace,
Acting Manager, Orlando Airports District Office, Southern Region.

[FR Doc. E8-7093 Filed 4-7-08; 8:45 am]

BILLING CODE 4910-13-M